DEPARTMENT OF AGRICULTURE

Forest Service

Stanislaus National Forest; California; Social and Ecological Resilience Across the Landscape 2.0 EIS

AGENCY: Forest Service, Agriculture (USDA).

ACTION: Notice of intent to prepare an environmental impact statement.

SUMMARY: The Forest Service (“Forest Service”), United States Department of Agriculture, is preparing an Environmental Impact Statement (EIS) for the Social and Ecological Resilience Across the Landscape 2.0 (SERAL 2.0) project. The project area is approximately 160,000 acres in size, including approximately 119,000 acres of Forest Service lands. The project area includes the remainder of the Stanislaus Landscape—a Wildfire Crisis Strategy Priority Landscape identified in 2022. The project area also spans multiple High Risk Western Firesheds identified by the Secretary of Agriculture in January 2023.

DATES: Comments concerning the scope of the analysis must be received by December 18, 2023. The draft environmental impact statement is expected in early February 2024, and the final environmental impact statement is expected in April 2024.

ADDRESSES: Scoping comments may be submitted electronically through https://cara.ecosystem-management.org/Public/commentInput?Project=63557. Written comments may be submitted via mail or by hand delivery to Stanislaus National Forest, Attn: SERAL 2.0, 19777 Greenley Road, Sonora, CA 95370.

FOR FURTHER INFORMATION CONTACT: Benjamin Cossel (Stanislaus National Forest Public Affairs Officer) by email at benjamin.cossel@usda.gov. Individuals who use telecommunication devices for the deaf and hard of hearing (TDD) may call the Federal Relay Service at 800-877-8339, 24 hours a day, every day of the year, including holidays.

SUPPLEMENTARY INFORMATION:

Purpose and Need for Action

The purpose of SERAL 2.0 is to prepare the landscape for the safe reintroduction of fire as a key ecological process; increase the landscape's resilience and adaptive capacity to natural disturbances such as fire, drought, insects and disease; reduce the risk of fire spreading into communities or damaging critical infrastructure; and to manage the forest in a cost-effective manner, including making wood products available to local industries and businesses. The actions proposed in the SERAL 2.0 project are needed to minimize the potential for large-, high-severity fire and habitat loss; shift the landscape vegetation structure and composition towards conditions that are more in alignment with future desired conditions, control occurrences of invasive, non-native plants; and support prescribed fire and wildfire management operations.

Proposed Action

The Stanislaus National Forest is proposing multiple actions to meet the purpose and need of the project. A combination of mechanical thinning and prescribed fire is proposed. Treatment objectives to create both late-open and mid-open forest structure will be achieved through mechanical thinning with strategically placed openings (gaps) and retained groups of trees (clumps) scattered throughout the treated landscape. Gaps and clumps will generally range in size between 0.1 and 0.5 acres, each averaging approximately 0.25 acres in size and a gap frequency of approximately one every two acres. Thinning would primarily consist of timber harvesting but also includes non-commercial methods such as mastication and biomass removal. Multiple logging systems, road maintenance, temporary road construction, and landing development would be required for commercial timber harvest. A proportion of the proposed restoration treatments will occur within California spotted owl protected activity centers and territories designed to incorporate the management approaches and conservation measures specifications presented in the Conservation Strategy for the California Spotted Owl in the Sierra Nevada (USDA Forest Service 2019).

The construction and maintenance of a shaded fuelbreak network is also proposed. The purpose of this proposed network is to break up large expanses of continuous fuels, support firefighter access and safety, increase suppression opportunities, and provide control points for the implementation of prescribed fire. To construct these fuelbreaks, trees may be thinned to shaded fuelbreak standards and continuous vegetation under 8″ DBH (the diameter of each tree is measured at “breast height”) or 12 feet tall will be broken up into naturally appearing clumps or islands of varied size and shape. Salvage of insect-, disease-, drought-, and fire-killed trees is included as part of the proposed action. The area of potential salvage varies: for insect-, disease-, and drought-killed trees, the area of potential salvage is limited to within 0.25 miles of maintenance level 2, 3, 4, and 5 National Forest System (NFS) roads; not requiring a new temporary road greater than 500 feet within forested areas; outside of protected activity centers (PACs), and outside of wild and scenic river corridors. For fire-killed trees, the area of potential salvage is further limited to only 500 acres per Hydrologic Unit Code (HUC) 6 watershed.

Non-native invasive weed control and eradication treatments are proposed for mapped known invasive weed locations, additional acres to account for a 20 percent rate of spread from those known locations, and a limited number of acres where future infestations are discovered after analysis.

Forest Plan Amendments

The proposed project-specific forest plan amendments are designed to implement the management approaches and conservation measures presented in the Conservation Strategy for the California Spotted Owl in the Sierra Nevada (“The CSO Strategy”; USDA Forest Service 2019). The amendments are specific to the approximate 160,000-acre project area and proposed actions. The proposed amendments incorporate CSO Strategy conservation measures that provide some immediate stability for individual owls while implementing actions to better increase landscape resilience. The CSO Strategy concludes that short term impacts are a trade-off that is warranted to best develop resilient habitat conditions that will provide long term stability and future CSO habitat.

Expected Impacts

This project is expected to significantly increase landscape resilience to natural disturbances which is the primary objective of SERAL 2.0. The treatments proposed to meet the desired landscape conditions may cause short term impacts to sensitive resources, including California spotted owl PACs. SERAL 2.0 is the second project on the Stanislaus National Forest to fully adopt and implement the CSO Strategy's management approaches and conservation measures (SERAL 1.0 in 2022 was the first). Although the long-term benefits are expected to far outweigh the risks to resources from applying these new approaches, a measure of uncertainty is also present. The proposed actions have been designed based on best available science and are well supported. However, at present, there are not any documented post-treatment case-studies of the outcomes of the treatments to directly inform the analysis, and thus the uncertainty.

Responsible Official

The Responsible Official will be Jason Kuiken, Forest Supervisor, Stanislaus National Forest.

Scoping Comments

This notice of intent initiates the scoping process which guides the development of the EIS. In this process, the Forest Service is requesting comments on potential impacts, and identification of any relevant information, studies, or analyses of any kind concerning impacts affecting the quality of the human environment. Public comments regarding this proposal will assist the Forest Service in identifying issues and opportunities associated with the proposal, how to best manage resources, and to focus the analysis. The SERAL 2.0 project was authorized to use the Western Firesheds Emergency Action Declaration (Bipartisan Infrastructure Law, Section 40807) on April 14, 2023. Under this emergency authority, the SERAL 2.0 EIS will be developed to consider only a proposed action and no action alternative in detail, and the EIS and draft decision will not be subject to pre-decisional administrative review (Consolidated Appropriations Act of 2012 (Pub. L. 112-74) as implemented by Subparts A and B of 36 CFR part 218 or part 219).

It is important that reviewers provide their comments at such times and in such manner that they are useful to the agency's preparation of the environmental impact statement. Therefore, comments should be provided prior to the close of the comment period and should clearly articulate the reviewers' concerns and contentions. The Forest Service will use the scoping comments to help identify potential significant issues related to the proposed action while preparing the draft EIS (DEIS). The DEIS is expected to be available for a 45-day opportunity to comment in early February 2024.

Comments received in response to this solicitation, including names and addresses of those who comment, will be part of the public record for this proposed action. Comments submitted anonymously will be accepted and considered.

Nature of Decision To Be Made

Given the purpose and need, the Responsible Official will determine whether the proposed actions comply with all applicable laws governing Forest Service actions and with the applicable standards and guidelines found in the Forest Plan of the Stanislaus National Forest; whether the EIS has sufficient environmental analysis to make an informed decision; and whether the proposed action meets the purpose and need for action. With this information, the Responsible Official must decide whether to select the proposed action and what, if any, additional actions should be required.

Substantive Provisions

The substantive provisions of 36 CFR 219.8 through 219.11 that directly apply to the proposed amendments are 36 CFR 219.9 Diversity of Plant and Animal Communities, (a) Ecosystem plan components, (1) Ecosystem integrity (36 CFR 219(a)(1)); 36 CFR 219.9 Diversity of Plant and Animal Communities, (a) Ecosystem plan components, (2) Ecosystem diversity, (i) key characteristics associated with the terrestrial and aquatic ecosystem types (36 CFR 219(a)(2)(i)); 36 CFR 219.9 Diversity of Plant and Animal Communities, (a) Ecosystem plan components, (2) Ecosystem diversity, (ii) rare aquatic and terrestrial plant and animal communities (36 CFR 219(a)(2)(ii)); and 36 CFR 219.8 Sustainability, (b) Social and Economic Sustainability, (1) Social, cultural, and economic conditions relevant to the area influenced by the plan (36 CFR 219.8(b)(1)).

Dated: November 1, 2023.
Troy Heithecker,
Associate Deputy Chief, National Forest System.

[FR Doc. 2023-25427 Filed 11-16-23; 8:45 am]

BILLING CODE 3411-15-P